DEPARTMENT OF DEFENSE

Office of the Secretary

Industry Information Day

AGENCY: DoD Chief Information Officer, DoD.

ACTION: Notice of meeting.

SUMMARY: DoD is hosting an “Industry Information Day” to present a briefing, and receive and address industry feedback on the implementation of Defense Federal Acquisition Regulation Supplement (DFARS) Case 2013-D018, “Network Penetration Reporting and Contracting for Cloud Services.”

DATES: The public meeting will be held on Friday, June 23, 2017, from 9:00 a.m. to 1:00 p.m., EDT. Registration to attend this meeting must be received by Monday, June 12, 2017.

ADDRESSES: The public meeting will be held at the Mark Center Auditorium, 4800 Mark Center Drive, Alexandria, VA 22350-3603. The auditorium is located on level B-1 of the building.

FOR FURTHER INFORMATION CONTACT: Ms. Vicki Michetti, at (703) 604-3167.

SUPPLEMENTARY INFORMATION: DoD is hosting an “Industry Information Day” to present a briefing on the implementation of Defense Federal Acquisition Regulation Supplement (DFARS) Case 2013-D018, “Network Penetration Reporting and Contracting for Cloud Services,” and to receive feedback and address questions from industry regarding its implementation. Organizations are encouraged to submit questions in writing prior to the meeting. Questions should be sent by email to OSD.DIBCSIAEvents@mail.mil with the subject line of the email stating, “Industry Information Day.” Questions should be submitted by Monday, May 1, 2017 for consideration.

Background: On October 21, 2016, DoD published a final rule under DFARS Case 2013-D018 entitled “Network Penetration Reporting and Contracting for Cloud Services” (81 FR 72986-73001) that amended DFARS 204.73, “Safeguarding Covered Defense Information and Cyber Incident Reporting,” and included implementation of statutory cyber incident reporting requirements imposed by sections 391 and 393 of Title 10, United State Code (U.S.C.), and DFARS 239.76, “Cloud Computing,” to implement updated DoD policy and procedures for the acquisition of cloud computing services.

Registration: Individuals wishing to attend the public meeting should register by Monday, June 12, 2017, to ensure adequate room accommodations and to facilitate entry in the Mark Center building. Interested parties may register via email at, OSD.DIBCSIAEvents@mail.mil. Due to space constraints, organizations are limited to a maximum of two representatives and should provide the following information:

(1) Company or organization name; and

(2) Names and email addresses of persons planning to attend.

One valid government-issued photo identification card will be required in order to enter the building. Non-U.S. citizens must bring their Permanent Resident Card or Alien Registration Card and original Social Security card as identification. Attendees are encouraged to arrive at least one hour early to accommodate security procedures. Accommodations for parking at the Mark Center will not be available, but may be found in the surrounding areas. Transportation information for the Mark Center may be obtained at http://www.whs.mil/our-services/transportation/getting-mark-center.

Special accommodations: The public meeting is physically accessible to people with disabilities. Requests for reasonable accommodations, sign language interpretation, or other auxiliary aids should be sent via email to OSD.DIBCSIAEvents@mail.mil no later than Monday, June 12, 2017.

Correspondence: Please cite “Industry Information Day” in all correspondence related to this public meeting.

Dated: March 31, 2017.
Aaron Siegel,
Alternate OSD Federal Register Liaison Officer, Department of Defense.

[FR Doc. 2017-06739 Filed 4-4-17; 8:45 am]

BILLING CODE 5001-06-P